NATIONAL AERONAUTICS AND SPACE ADMINISTRATION

[Notice (02-094)]

NASA Advisory Council, Advanced Space Transportation Subcommittee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council, Aerospace Technology Advisory Committee (ATAC), Advanced Space Transportation Subcommittee (ASTS).

DATES: Tuesday, September 10, 2002, 12:30 p.m. to 5 p.m.; and Wednesday, September 11, 2002, 9 a.m. to 12:30 p.m.

ADDRESSES: National Aeronautics and Space Administration, Room 9H40, 300 E Street, SW., Washington, DC 20546.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

—Overview of Space Launch Initiative (SLI)

—Integrated Space Transportation Plan (ISTP) Update

—SLI Lesson Learned

—Review of SLI Partnerships

—SLI Technology Development

—Composite vs. Metallic Fuel Tanks

It is imperative that the meeting be held on these dates to accommodate the scheduling priorities of the key participants.

Dated: August 1, 2002.
Sylvia K. Kraemer,
Advisory Committee Management Officer, National Aeronautics and Space Administration.

[FR Doc. 02-20216 Filed 8-8-02; 8:45 am]

BILLING CODE 7510-01-P